FEDERAL COMMUNICATIONS COMMISSION

47 CFR Part 64

[WC Docket No. 12-375; DA 20-1128, FRS 17113]

Rates for Interstate Inmate Calling Services

AGENCY: Federal Communications Commission.

ACTION: Proposed rule; availability of supplemental information.

SUMMARY: In this document, the Federal Communications Commission (Commission) announces the availability, under the terms of the Protective Order in the ICS proceeding, of the inmate calling services database (the ICS Database) that the Commission staff developed for use in its Rates for Interstate Inmate Calling Services (ICS) proceeding, FCC 20-111, released August 7, 2020, Fourth Further Notice of Proposed Rulemaking (Fourth FNPRM). This document also sets forth the requirements individuals must meet in order to obtain a copy of the ICS database.

DATES: The public notice was effective on September 24, 2020.

ADDRESSES: You may submit comments, identified by WC Docket No. 12-375, by any of the following methods:

• Federal Communications Commission's Website: http://apps.fcc.gov/ecfs/. Follow the instructions for submitting comments.

• Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701. U.S. Postal Service first-class, Express, and Priority mail must be addressed to 445 12th Street SW, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: Contact the FCC to request reasonable accommodations (accessible format documents, sign language interpreters, CART, etc.) by email: FCC504@fcc.gov or phone: 202-418-0530 or TTY: 202-418-0432.

FOR FURTHER INFORMATION CONTACT: Erik Raven-Hansen, Pricing Policy Division of the Wireline Competition Bureau, at (202) 418-1532 or via email at Erik.Raven-Hansen@fcc.gov.

SUPPLEMENTARY INFORMATION: This is a summary of the Commission's document (Public Notice), DA 20-1128, released on September 24, 2020. The full text of this document is available for public inspection and can be downloaded at https://docs.fcc.gov/public/attachments/DA-20-1128A1.pdf. The full text of this document can also be obtained at the following internet address: https://www.fcc.gov/document/wcb-and-oea-announce-availability-ics-database.

By the Public Notice, the Wireline Competition Bureau (Bureau) and Office of Economics and Analytics (OEA) announce the availability of the database developed by Commission staff for use in the Rates for Interstate Inmate Calling Services proceeding (the ICS Database) under the terms of the Protective Order in this proceeding (28 FCC Rcd 16954). The Commission used this ICS Database in developing its rate cap proposals in the recent 2020 ICS Notice.

The ICS Database contains confidential information submitted to the Commission by providers of calling services for incarcerated individuals, including cost and revenue information that each provider submitted in response to the Commission's Second Mandatory Data Collection. The database also includes geocoding information related to facility locations added by the Commission staff that outside parties might find difficult to replicate. Making this database available will allow interested parties to rely on a common dataset in evaluating and responding to the Commission's rate cap proposals in this proceeding, while ensuring providers remain protected against the unwarranted disclosure of their confidential information.

To request access to the ICS Database, interested individuals must first satisfy the requirements of the Protective Order. Under the terms of the Protective Order, access to information submitted under a claim of confidentiality is limited to counsel and outside consultants who are not involved in competitive decision-making, who have executed the Acknowledgement of Confidentiality appended to that Order, and who meet the other requirements of that Order. Individuals who qualify thereunder should contact the Bureau's staff, as set forth below. Before making the database available, Bureau staff will require each qualified person seeking access to execute a separate Recipient Acknowledgment governing use of the ICS Database, attached hereto. As detailed more fully in the Recipient Acknowledgment, recipients will be obligated to ensure that their copies of the database are not duplicated (whether in full or in part) and that there will be no disclosure of any of the confidential information in the database except as specifically permitted by the Protective Order. Any other use of any confidential information contained in the ICS Database will constitute a violation of an order of the Federal Communications Commission.

Federal Communications Commission.
Daniel Kahn,
Associate Bureau Chief, Wireline Competition Bureau.

Recipient Acknowledgment

Rates for Interstate Inmate Calling Services

WC Docket No. 12-375

By signing below, I certify that I am Counsel or Outside Consultant, as such terms are defined in the Protective Order in WC Docket No. 12-375. I further certify that I am a signatory of the Acknowledgement of Confidentiality appended to that Protective Order, and that I understand it. I acknowledge that I will be receiving instructions that will allow me to download a database (the ICS Database) on which the Commission relied in the Report and Order on Remand and Fourth Further Notice of Proposed Rulemaking, FCC 20-111, in this proceeding. I also acknowledge that the ICS Database contains information that is not publicly available and that constitutes Confidential Information under the terms of the Protective Order.

I agree that I will download no more than one copy of the Commission's ICS Database and will delete the ICS Database upon completion of this proceeding in accordance with the terms of the Protective Order. I acknowledge that it is my obligation to ensure that my copy of the ICS Database is not duplicated (in whole or in part) except as specifically permitted by the terms of the Protective Order. I also acknowledge that it is my obligation to ensure that there is no disclosure of any Confidential Information in the ICS Database except as specifically permitted by the terms of the Protective Order. I further acknowledge that any use of any Confidential Information contained therein other than as permitted under the terms of the Protective Order constitutes a violation of an order of the Federal Communications Commission. I further acknowledge that the provisions of the Protective Order do not terminate at the conclusion of this proceeding.

I acknowledge that I have read the above paragraph and agree to its terms. I attach a copy of my signed Acknowledgment from the Protective Order. I confirm that with regard to Confidential Information, any objection to such Acknowledgment pursuant to the Protective Order has been resolved in my favor and the Acknowledgment remains in full force and effect.

Executed this __day of ___, 2020.

By: _____

Name: _____

Title: _____

Organization: _____

Party Representing: _____

Telephone: _____

[FR Doc. 2020-22564 Filed 10-19-20; 8:45 am]

BILLING CODE 6712-01-P